NUCLEAR WASTE TECHNICAL REVIEW BOARD

Meeting

Board meeting: August 6, 2014—The U.S. Nuclear Waste Technical Review. Board will meet to discuss management and disposal of DOE spent nuclear fuel and high-level radioactive waste.

Pursuant to its authority under section 5051 of Public Law 100-203, Nuclear Waste Policy Amendments Act of 1987, the U.S. Nuclear Waste Technical Review Board will meet in Idaho Falls, Idaho, on Wednesday, August 6, 2014, to review U.S. Department of Energy (DOE) plans for the packaging, transportation, and disposal of DOE spent nuclear fuel (SNF) and high-level radioactive waste (HLW). Among the topics that will be discussed at the meeting are DOE SNF and HLW management activities that will affect the eventual disposal of the wastes, including: Extended storage of SNF at DOE sites, treatment of DOE SNF in preparation for offsite transportation and disposal, research and development related to dry-cask storage of high burnup SNF, aging management of SNF storage facilities, and the transportation of damaged SNF. The Nuclear Waste Policy Amendments Act (NWPAA) of 1987 charges the Board with conducting an ongoing and independent evaluation of the technical and scientific validity of DOE activities related to implementing the Nuclear Waste Policy Act.

The meeting will be held at the Marriott Residence Inn, 635 West Broadway, Idaho Falls, Idaho 83402; Telephone 208-542-0000. A block of rooms has been reserved for meeting attendees at the special rate of $129.00 per night. Reservations may be made by phone or online at http://www.marriott.com/meeting-event-hotels/group-corporate-travel/groupCorp.mi?resLinkData=NWTRB‸IDARI%60NWTNWTS%60129.00%60USD%60false%608/4/14%608/8/14%607/6/14&app=resvlink&stop_mobi=yes. Group Name: NWTRB. Reservations must be made by July 6, 2014, to ensure receiving the meeting rate.

The meeting will begin at 8:00 a.m. on Wednesday, August 6, 2014, with a call to order and introductory statement by the Board Chairman and is scheduled to adjourn at 5:20 p.m. A detailed meeting agenda will be available on the Board's Web site: www.nwtrb.gov approximately one week before the meeting. The agenda also may be requested by email or telephone at that time from Davonya Barnes of the Board's staff.

The meeting will be open to the public, and an opportunity for public comment will be provided at the end of the day. Those wanting to speak are encouraged to sign the “Public Comment Register” at the check-in table. Depending on the number of people who sign up, it may be necessary to set a time limit on individual remarks, but written comments of any length may be submitted for the record.

Transcripts of the meeting will be available on the Board's Web site no later than September 1, 2014. Copies may be requested for transmission by email, on computer disk, or in paper format from Davonya Barnes of the Board's staff

The Board was established in the NWPAA as an independent federal agency in the Executive Branch to provide objective expert advice to Congress and the Secretary of Energy on technical issues related to SNF and HLW management and disposal and to review the technical and scientific validity of DOE activities related to implementing the NWPA. Board members are experts in their fields and are appointed to the Board by the President from a list of candidates submitted by the National Academy of Sciences. The Board reports its findings, conclusions, and recommendations to Congress and the Secretary of Energy. All Board reports, correspondence, congressional testimony, and meeting transcripts and related materials are posted on the Board's Web site.

For information on the meeting agenda, contact Bret Leslie: leslie@nwtrb.gov or Karyn Severson: severson@nwtrb.gov. For information on lodging or logistics, contact Linda Coultry: coultry@nwtrb.gov. To request copies of the meeting agenda or the transcript, contact Davonya Barnes: barnes@nwtrb.gov. All three can be reached by mail at 2300 Clarendon Boulevard, Suite 1300; Arlington, VA 22201-3367; by telephone at 703-235-4473; or by fax at 703-235-4495.

Dated: June 16, 2014.
Nigel Mote,
Executive Director, U.S. Nuclear Waste Technical Review Board.

[FR Doc. 2014-14382 Filed 6-18-14; 8:45 am]

BILLING CODE 6820-AM-P